DEPARTMENT OF ENERGY

48 CFR Parts 915, 934, 942, 944, 945, and 952

RIN 1991-AC01

Acquisition Regulation: Contractor Business Systems—Definition and Administration

AGENCY: Department of Energy.

ACTION: Proposed rulemaking; withdrawal.

SUMMARY: On April 1, 2014, the U.S. Department of Energy (DOE) published a rule in the Federal Register proposing to amend the Department of Energy Acquisition Regulation (DEAR). DOE hereby withdraws this proposed rule.

DATES: The proposed rule that appeared in the Federal Register on April 1, 2014 at 79 FR 18415 is withdrawn as of July 6, 2016.

FOR FURTHER INFORMATION CONTACT: Jennifer Tiedeman, U.S. Department of Energy, Office of the General Counsel, GC-33, 1000 Independence Avenue SW., Washington, DC 20585-0121. Telephone: (202) 287-6111. Email: Jennifer.Tiedeman@hq.doe.gov.

SUPPLEMENTARY INFORMATION: On April 1, 2014, the U.S. Department of Energy (DOE) published a rule proposing to amend the Department of Energy Acquisition Regulation (DEAR) to define contractor business system as an accounting system, estimating system, purchasing system, earned value management system (EVMS), and property management system (79 FR 18415). In the proposed rulemaking, DOE proposed to implement compliance enforcement mechanisms in the form of a contractor business system clause and related clauses that included a provision that would allow contracting officers to withhold a percentage of payments, under certain conditions, when a contractor's business system contained significant deficiencies. However, the Department has determined that it will not proceed with the rulemaking and, as such, is withdrawing the proposed rule.

Issued in Washington, DC, on June 23, 2016.
Berta Schreiber,
Director, Office of Acquisition Management, Department of Energy.
Joseph Waddell,
Deputy Associate Administrator, Acquisition and Project Management, National Nuclear Security Administration.

[FR Doc. 2016-15937 Filed 7-5-16; 8:45 am]

BILLING CODE 6450-01-P